DEPARTMENT OF ENERGY

Federal Energy Regulatory Commission

Docket No. RP04-130-000]

Fidelity Exploration & Production Company Complainant v. Southern Star Central Gas Pipeline, Inc. Respondent; Notice of Complaint

January 2, 2004.

Take notice that on December 31, 2003, Fidelity Exploration & Production Company (Fidelity) submitted a complaint against Southern Star Central Gas Pipeline, Inc. (Southern Star) requesting fast track processing by the Federal Energy Regulatory Commission. Fidelity alleges that Southern Star violated its tariff provisions that outline the best bid procedure for an existing shipper's right of first refusal at the expiration or renegotiation of its agreement. Fidelity states that a copy of the complaint was served on Southern Star on December 31, 2003, via facsimile.

Any person desiring to be heard or to protest this filing should file with the Federal Energy Regulatory Commission, 888 First Street, NE, Washington, DC. 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866)208-3676, or for TTY, contact (202)502-8659. The answer to the complaint, comments, protests and interventions may be filed electronically via the Internet in lieu of paper; see 18 CFR 385.2001(a)(1)(iii) and the instructions on the Commission's Web site under the “e-Filing” link. The Commission strongly encourages electronic filings.

Comment Date: January 20, 2004.

Linda Mitry,
Acting Secretary.

[FR Doc. E4-28 Filed 01-9-04; 8:45 am]

BILLING CODE 6717-01-P